DEPARTMENT OF LABOR

Employment and Training Administration

[TA-W-54,640]

PSC Metals, Inc., Cleveland Office, Cleveland, OH; Notice of Termination of Investigation

Pursuant to section 221 of the Trade Act of 1974, as amended, an investigation was initiated on April 1, 2004, in response to a worker petition filed by a State agency representative on behalf of workers at PSC Metals, Inc., Cleveland Office, Cleveland, Ohio.

The petitioning group of workers is covered by an active certification issued on October 3, 2003, and which remains in effect (TA-W-52,684). Consequently, further investigation in this case would serve no purpose, and the investigation has been terminated.

Signed in Washington, DC this 13th day of April, 2004.
Elliott S. Kushner,
Certifying Officer, Division of Trade Adjustment Assistance.

[FR Doc. E4-1012 Filed 5-3-04; 8:45 am]

BILLING CODE 4510-13-P